DEPARTMENT OF AGRICULTURE

Forest Service

Extension of Comment Period on the Proposed Land Management Plans for the Bitterroot, Flathead and Lolo National Forest

AGENCY: Forest Service, USDA.

SUMMARY: The Forest Service published a notice in the Federal Register on May 8, 2006 initiating a 90-day comment period on the Proposed Land Management Plans for the Bitterroot, Flathead and Lolo National Forests. The closing date for submitting comments has been extended to September 7, 2006.

ADDRESSES: Comments should be sent to: Proposed Land Management Plan, Bitterroot National Forest, 1801 North 1st St., Hamilton, MT 59840. Comments by e-mail should be sent to: wmpz@fs.fed.us.

DATES: The comment period closing date has been extended, from August 7, 2006 to September 7, 2006.

FOR FURTHER INFORMATION CONTACT: Claudia Narcisco, 406-329-3802.

SUPPLEMENTARY INFORMATION: In the Federal Register of May 8, 2006, (FR Vol. 71, Num. 88, page 26734) the Forest Service initiated a 90-day comment period on the Proposed Land Management Plans for the Bitterroot, Flathead and Lolo National Forests. The closing date for submitting comments has been extended from August 7, 2006 to September 7, 2006.

Pursuant to 36 CFR 219.9(b)(2), the Bitterroot, Flathead and Lolo National Forests are asking for comments on their Proposed Forest Land Management Plans. The Plans are available for viewing and downloading at the Web site: www.fs.fed.us/r1/wmpz. CD (Compact Disk) copies of the Plans have been mailed to persons on our current mailing list and are available to others on request. Plans are also available for viewing at Supervisors Offices and Ranger Stations on the Bitterroot, Flathead and Lolo National Forests.

Please note that all comments, names, and addresses become part of the public record and are subject to the Freedom of Information Act, except for proprietary documents and information.

Dated: July 31, 2006.
Deborah L.R. Austin,
Forest Supervisor, Lolo National Forest.

[FR Doc. 06-6706 Filed 8-4-06; 8:45 am]

BILLING CODE 3410-11-M